DEPARTMENT OF THE TREASURY

Submission for OMB Review; Comment Request

February 27, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 5, 2001 to be assured of consideration.

U.S. Customs Service (CUS)

OMB Number: 1515-0213.

Form Number: None.

Type of Review: Extension.

Title: Drawback Process Regulations and Entry Collection Documents.

Description: The information is to be used by Customs Officers to expedite the filing and processing of drawback claims, while maintaining necessary enforcement information to maintain effective administrative oversight over the drawback program.

Respondents: Business or other for-profit, Not-for-profit institutions.

Estimated Number of Respondents: 8,150.

Estimated Burden Hours Per Respondent: 8 hours.

Frequency of Response: On occasion.

Estimated Total Reporting Burden: 90,000 hours.

OMB Number: 1515-0219.

Form Number: None.

Type of Review: Extension.

Title: Andean Trade Preferences.

Description: The collection identifies the country of origin and related rules which apply for purposes of duty-free or reduced-duty treatment on imported goods under the Act and specifies the documentary and other procedural requirements which apply to any claim for such preferential tariff treatment under the Act (Public Law 102-182, which is codified at 19 U.S.C. 3201 through 3206.

Respondents: Business or other for-profit, Individuals or households, Not-for-profit institutions.

Estimated Number of Respondents: 150,000.

Estimated Burden Hours Per Respondent: 2 minutes.

Frequency of Response: On occasion.

Estimated Total Reporting Burden: 5,000 hours.

Clearance Officer: J. Edgar Nichols (202) 927-1426 or Tracey Denning (202) 927-1429, U.S. Customs Service, Information Services Branch, Ronald Reagan Building, 1300 Pennsylvania Avenue, NW., Room 3.2.C, Washington, DC 20229.

OMB Reviewer: Alexander T. Hunt (202) 395-7860, Office of Management and Budget, Room 10202, New Executive Office Building, Washington, DC 20503.

Lois K. Holland,
Departmental Reports Management Officer.

[FR Doc. 01-5322 Filed 3-5-01; 8:45 am]

BILLING CODE 4820-02-P